DEPARTMENT OF DEFENSE

Office of the Secretary

Ninth Annual National Security Education Program Institutional Grants Competition

AGENCY: Department of Defense.

ACTION: Notice.

SUMMARY: The National Security Education Program (NSEP) announces the opening of its Ninth Annual Competition for Grants to U.S. Institutions of Higher Education.

DATES: The 2002 NSEP Grants Competition begins on Tuesday, February 5, 2002. Preliminary Proposals are due Monday, April 8, 2002.

ADDRESSES: Grants Solicitations (application, guidelines, and forms) will be available and may be downloaded from the NSEP home page beginning Tuesday, February 5, 2002. This is the address: http://www.ndu.edu/nsep. As an alternate method, you may obtain a copy of the solicitation package by writing to: NSEP, Institutional Grants, Rosslyn P.O. Box 20010, 1101 Wilson Blvd., Suite 1210, Arlington, VA 22209-2248.

FOR FURTHER INFORMATION CONTACT: Dr. Kevin J. Gormley, Grants Officer, National Security Education Program, Rosslyn P.O. Box 20010, 1101 Wilson Boulevard, Suite 1210, Arlington, Virginia 22209-2248; (703) 696-1991. This is his electronic mail address: gormleyk@ndu.edu.

Dated: January 18, 2002.
L.M. Bynum,
Alternate OSD Federal Register Liaison Officer, Department of Defense.

[FR Doc. 02-1950 Filed 1-25-02; 8:45 am]

BILLING CODE 5001-08-M